DEPARTMENT OF ENERGY

Western Area Power Administration

Commitment To Purchase a Custom Product, Central Valley Project

AGENCY: Western Area Power Administration, DOE.

ACTION: Notice of Extension.

SUMMARY: The Western Area Power Administration (Western), a Federal power marketing administration of DOE, published its final 2004 Power Marketing Plan (Marketing Plan) for the Sierra Nevada Customer Service Region (Sierra Nevada Region) in the Federal Register. This notice extends the commitment date to purchase a Custom Product from the Sierra Nevada Region.

DATES: Existing customers and Resource Pool allottees interested in purchasing a Custom Product must provide written notice to the Sierra Nevada Region of their interest on or before June 30, 2003, and must commit to that purchase by executing a contract on or before June 30, 2004.

FOR FURTHER INFORMATION CONTACT: Thomas R. Boyko, Power Marketing Manager, Western Area Power Administration, Sierra Nevada Customer Service Region, 114 Parkshore Drive, Folsom, CA 95630-4710, (916) 353-4421 or boyko@wapa.gov.

SUPPLEMENTARY INFORMATION:

Authorities

The Marketing Plan for marketing power by the Sierra Nevada Region after 2004, published in the Federal Register (64 FR 34417) on June 25, 1999, including the subsequent Final Resource Pool Allocations, published in the Federal Register (65 FR 45976) on July 26, 2000, was established pursuant to the Department of Energy Organization Act (42 U.S.C. 7101-7352); the Reclamation Act of June 17, 1902, (ch. 1093, 32 Stat. 388) as amended and supplemented by subsequent enactments, particularly section 9(c) of the Reclamation Project Act of 1939 (43 U.S.C. 485h(c)); and other acts specifically applicable to the projects involved.

Background

The Marketing Plan describes how the Sierra Nevada Region will market its power resources from the Central Valley Project, Washoe Project, and other sources beginning January 1, 2005, through December 31, 2024. The 2005 Resource Pool was established for new power allocations, and those allocations were made to qualified entities. The Marketing Plan provided for making a Custom Product available to interested customers. The Custom Product is a combination of additional services such as supplemental power, scheduling agent and coordinator services, and ancillary services.

This notice provides an extension of time to commit to purchase the Custom Product. The Marketing Plan required a customer to commit to purchase the Custom Product by December 31, 2002. By this notice Western extends this date from December 31, 2002, to June 30, 2004. The customers must notify the Sierra Nevada Region on or before June 30, 2003, of their intention to participate in the Custom Product. Any customer deciding to purchase the Custom Product must sign a contract on or before June 30, 2004.

Dated: September 10, 2002.
Michael S. Hacskaylo,
Administrator.

[FR Doc. 02-24426 Filed 9-25-02; 8:45 am]

BILLING CODE 6450-01-P